DEPARTMENT OF HEALTH AND HUMAN SERVICES

45 CFR Part 98

[Docket No. 2016-22986]

RIN 0970-AC67

Child Care and Development Fund (CCDF) Program; Correction

AGENCY: Office of Child Care (OCC), Administration for Children and Families (ACF), Department of Health and Human Services (HHS).

ACTION: Correcting amendment.

SUMMARY: The Department of Health and Human Services published a final rule in the Federal Register on September 30, 2016 that revised regulations for the Child Care and Development Fund (CCDF) program. The final rule inadvertently included incorrect numbering of two paragraphs. This document corrects the numbering of those two paragraphs.

DATES: Effective on January 11, 2017.

FOR FURTHER INFORMATION CONTACT: Andrew Williams, Office of Child Care, at 202-401-4795 (not a toll-free call). Deaf and hearing impaired individuals may call the Federal Dual Party Relay Services at 1-800-877-8339 between 8 a.m. and 7 p.m. Eastern Time.

SUPPLEMENTARY INFORMATION: The Department of Health and Human Services published a final rule in the Federal Register on September 30, 2016 (81 FR 67438) that revised regulations for the Child Care and Development Fund (CCDF) program based on the Child Care and Development Block Grant Act of 2014. The final rule inadvertently included incorrect numbering of two paragraphs in 45 CFR 98.83(d)(1) regarding requirements for tribal CCDF programs. This document corrects the final regulations by revising this section.

List of Subjects in 45 CFR Part 98

Child care, Grant programs—social programs.

Accordingly, 45 CFR part 98 is corrected by making the following correcting amendments:

PART 98—CHILD CARE AND DEVELOPMENT FUND

1. The authority citation for part 98 continues to read as follows:

Authority: 42 U.S.C. 618, 9858.

2. Revise paragraph (d)(1) of § 98.83 to read as follows:

§ 98.83 Requirements for tribal programs.

* * * * *

(d)(1) Tribal Lead Agencies shall not be subject to:

(i) The requirement to produce a consumer education Web site at § 98.33(a). Tribal Lead Agencies still must collect and disseminate the provider-specific consumer education information described at § 98.33(a) through (d), but may do so using methods other than a Web site;

(ii) The requirement to have licensing applicable to child care services at § 98.40;

(iii) The requirement for a training and professional development framework at § 98.44(a);

(iv) The market rate survey or alternative methodology described at § 98.45(b)(2) and the related requirements at § 98.45(c), (d), (e), and (f);

(v) The requirement that Lead Agencies shall give priority for services to children of families with very low family income at § 98.46(a)(1);

(vi) The requirement that Lead Agencies shall prioritize increasing access to high-quality child care in areas with significant concentrations of poverty and unemployment at § 98.46(b);

(vii) The requirements about Mandatory and Matching Funds at § 98.50(e);

(viii) The requirement to complete the quality progress report at § 98.53(f);

(ix) The requirement that Lead Agencies shall expend no more than five percent from each year's allotment on administrative costs at § 98.54(a); and

(x) The Matching Fund requirements at §§ 98.55 and 98.63.

* * * * *

Dated: January 3, 2017.
Madhura C. Valverde,
Executive Secretary to the Department, Department of Health and Human Services.

[FR Doc. 2017-00093 Filed 1-10-17; 8:45 am]

BILLING CODE 4150-28-P